DEPARTMENT OF TRANSPORTATION

Federal Aviation Administration

14 CFR Part 97

[Docket No. 30974 Amdt. No. 3605]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 25, 2014. The compliance date for each SIAP, associated Takeoff Minimums, and ODP is specified in the amendatory provisions.

The incorporation by reference of certain publications listed in the regulations is approved by the Director of the Federal Register as of September 25, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866;(2) is not a “significant rule ” under DOT Regulatory Policies and Procedures (44 FR 11034; February 26,1979) ; and (3)does not warrant preparation of a regulatory evaluation as the anticipated impact is so minimal. For the same reason, the FAA certifies that this amendment will not have a significant economic impact on a substantial number of small entities under the criteria of the Regulatory Flexibility Act.

List of Subjects in 14 CFR Part 97: Air Traffic Control, Airports, Incorporation by Reference, and Navigation (Air)

Issued in Washington, DC on August 15, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 18 SEPTEMBER 2014

St Paul Island, AK, St Paul Island, ILS OR LOC/DME RWY 36, Amdt 3B

Sylacauga, AL, Merkel Field Sylacauga Muni, Takeoff Minimums and Obstacle DP, Amdt 3

Conway, AR, Cantrell Field, RNAV (GPS) RWY 4, Orig

Conway, AR, Cantrell Field, RNAV (GPS) RWY 22, Orig

Conway, AR, Cantrell Field, Takeoff Minimums and Obstacle DP, Orig

Little Rock, AR, Bill and Hillary Clinton National/Adams Field, ILS OR LOC RWY 4L, Amdt 26

Chandler, AZ, Chandler Muni, Takeoff Minimums and Obstacle DP, Amdt 1

Phoenix, AZ, Phoenix Sky Harbor Intl, Takeoff Minimums and Obstacle DP, Amdt 6

Long Beach, CA, Long Beach/Daugherty Field, Takeoff Minimums and Obstacle DP, Amdt 5

Oakland, CA, Metropolitan Oakland Intl, ILS OR LOC RWY 30, ILS RWY 30 (CAT II), ILS RWY 30 (CAT III), ILS RWY 30 (SA CAT I), Amdt 28

Oakland, CA, Metropolitan Oakland Intl, RNAV (GPS) RWY 10L, Amdt 2

Oakland, CA, Metropolitan Oakland Intl, RNAV (GPS) RWY 10R, Amdt 2

Oakland, CA, Metropolitan Oakland Intl, RNAV (GPS) Y RWY 12, Amdt 3

Oakland, CA, Metropolitan Oakland Intl, RNAV (GPS) Y RWY 30, Amdt 4

Oakland, CA, Metropolitan Oakland Intl, RNAV (RNP) Z RWY 12, Amdt 1C

Oakland, CA, Metropolitan Oakland Intl, RNAV (RNP) Z RWY 30, Amdt 2

Oakland, CA, Metropolitan Oakland Intl, VOR RWY 10R, Amdt 10

Sacramento, CA, Sacramento Intl, RNAV (RNP) Z RWY 34L, Orig-B

Sacramento, CA, Sacramento Intl, RNAV (RNP) Z RWY 34R, Orig-C

Santa Ana, CA, John Wayne Airport-Orange County, ILS OR LOC RWY 20R, Amdt 13

Santa Ana, CA, John Wayne Airport-Orange County, LOC BC RWY 2L, Amdt 12

Santa Ana, CA, John Wayne Airport-Orange County, LDA/DME RWY 20R, Amdt 2

Santa Ana, CA, John Wayne Airport-Orange County, RNAV (GPS) RWY 2L, Amdt 1

Santa Ana, CA, John Wayne Airport-Orange County, RNAV (GPS) Y RWY 20R, Amdt 2

Santa Ana, CA, John Wayne Airport-Orange County, RNAV (RNP) Z RWY 20R, Amdt 1

Georgetown, DE, Sussex County, RNAV (GPS) RWY 4, Amdt 2

Georgetown, DE, Sussex County, RNAV (GPS) RWY 22, Amdt 2

Georgetown, DE, Sussex County, Takeoff Minimums and Obstacle DP, Amdt 4

Georgetown, DE, Sussex County, VOR RWY 22, Amdt 7

Daytona Beach, FL, Daytona Beach Intl, ILS OR LOC RWY 7L, Amdt 32

Daytona Beach, FL, Daytona Beach Intl, ILS OR LOC RWY 25R, Amdt 1

Daytona Beach, FL, Daytona Beach Intl, RNAV (GPS) RWY 25R, Amdt 4

Fort Lauderdale, FL, Fort Lauderdale Executive, ILS OR LOC RWY 8, Amdt 5

Fort Lauderdale, FL, Fort Lauderdale Executive, RNAV (GPS) RWY 8, Amdt 2

Fort Lauderdale, FL, Fort Lauderdale Executive, RNAV (GPS) RWY 26, Amdt 2

Fort Lauderdale, FL, Fort Lauderdale Executive, Takeoff Minimums and Obstacle DP, Amdt 4

Fort Lauderdale, FL, Fort Lauderdale/Hollywood Intl, ILS OR LOC RWY 10L, Amdt 24

Fort Lauderdale, FL, Fort Lauderdale/Hollywood Intl, ILS OR LOC RWY 10R, Orig

Fort Lauderdale, FL, Fort Lauderdale/Hollywood Intl, ILS OR LOC RWY 28L, Orig

Fort Lauderdale, FL, Fort Lauderdale/Hollywood Intl, ILS OR LOC RWY 28R, Amdt 11

Fort Lauderdale, FL, Fort Lauderdale/Hollywood Intl, RNAV (GPS) RWY 10R, Orig

Fort Lauderdale, FL, Fort Lauderdale/Hollywood Intl, RNAV (GPS) RWY 28L, Orig

Fort Lauderdale, FL, Fort Lauderdale/Hollywood Intl, RNAV (GPS) Y RWY 28R, Amdt 4

Fort Lauderdale, FL, Fort Lauderdale/Hollywood Intl, RNAV (GPS) Z RWY 10L, Amdt 4

Fort Lauderdale, FL, Fort Lauderdale/Hollywood Intl, Takeoff Minimums and Obstacle DP, Amdt 6

Marco Island, FL, Marco Island, RNAV (GPS) RWY 35, Orig-A

Pompano Beach, FL, Pompano Beach Airpark, LOC RWY 15, Amdt 4

Pompano Beach, FL, Pompano Beach Airpark, RNAV (GPS) RWY 6, Orig-B

Pompano Beach, FL, Pompano Beach Airpark, RNAV (GPS) RWY 15, Amdt 1

Pompano Beach, FL, Pompano Beach Airpark, RNAV (GPS) RWY 24, Orig-A

Pompano Beach, FL, Pompano Beach Airpark, RNAV (GPS) RWY 33, Amdt 1

Pompano Beach, FL, Pompano Beach Airpark, Takeoff Minimums and Obstacle DP, Amdt 5

Zephyrhills, FL, Zephyrhills Muni, RNAV (GPS) RWY 1, Amdt 1

Zephyrhills, FL, Zephyrhills Muni, RNAV (GPS) RWY 5, Orig

Zephyrhills, FL, Zephyrhills Muni, RNAV (GPS) RWY 19, Amdt 1

Zephyrhills, FL, Zephyrhills Muni, RNAV (GPS) RWY 23, Orig

Zephyrhills, FL, Zephyrhills Muni, Takeoff Minimums and Obstacle DP, Amdt 2

Atlanta, GA, Hartsfield—Jackson Atlanta Intl, ILS OR LOC RWY 8L, ILS RWY 8L (SA CAT I), ILS RWY 8L (CAT II), ILS RWY 8L (CAT III), Amdt 5

Atlanta, GA, Hartsfield—Jackson Atlanta Intl, ILS OR LOC RWY 8R, Amdt 61

Atlanta, GA, Hartsfield—Jackson Atlanta Intl, ILS OR LOC RWY 9L, Amdt 10

Atlanta, GA, Hartsfield—Jackson Atlanta Intl, ILS OR LOC RWY 9R, ILS RWY 9R (SA CAT I), ILS RWY 9R (CAT II), ILS RWY 9R (CAT III), Amdt 19

Atlanta, GA, Hartsfield—Jackson Atlanta Intl, ILS OR LOC RWY 10, ILS RWY 10 (SA CAT I), ILS RWY 10 (CAT II), ILS RWY 10 (CAT III), Amdt 4

Atlanta, GA, Hartsfield—Jackson Atlanta Intl, ILS OR LOC RWY 26L, Amdt 21

Atlanta, GA, Hartsfield—Jackson Atlanta Intl, ILS OR LOC RWY 26R, ILS RWY 26R (SA CAT I), ILS RWY 26R (SA CAT II), Amdt 7

Atlanta, GA, Hartsfield—Jackson Atlanta Intl, ILS OR LOC RWY 27L, ILS RWY 27L (SA CAT I), ILS RWY 27L (CAT II), Amdt 18

Atlanta, GA, Hartsfield—Jackson Atlanta Intl, ILS OR LOC RWY 27R, Amdt 6

Atlanta, GA, Hartsfield—Jackson Atlanta Intl, ILS OR LOC RWY 28, ILS RWY 28 (SA CAT I), ILS RWY 28 (CAT II), Amdt 4

Atlanta, GA, Hartsfield—Jackson Atlanta Intl, ILS PRM RWY 8L, ILS PRM RWY 8L (SA CAT I), ILS PRM RWY 8L (CAT II), ILS PRM RWY 8L (CAT III) (SIMULTANEOUS CLOSE PARALLEL), Amdt 2

Atlanta, GA, Hartsfield—Jackson Atlanta Intl, ILS PRM RWY 8R (SIMULTANEOUS CLOSE PARALLEL), Amdt 2

Atlanta, GA, Hartsfield—Jackson Atlanta Intl, ILS PRM RWY 9L (SIMULTANEOUS CLOSE PARALLEL), Amdt 2

Atlanta, GA, Hartsfield—Jackson Atlanta Intl, ILS PRM RWY 9R, ILS PRM RWY 9R (SA CAT I), ILS PRM RWY 9R (CAT II), ILS PRM RWY 9R (CAT III) (SIMULTANEOUS CLOSE PARALLEL), Amdt 2

Atlanta, GA, Hartsfield—Jackson Atlanta Intl, ILS PRM RWY 10, ILS PRM RWY 10 (SA CAT I), ILS PRM RWY 10 (CAT II), ILS PRM RWY 10 (CAT III) (SIMULTANEOUS CLOSE PARALLEL), Amdt 4

Atlanta, GA, Hartsfield—Jackson Atlanta Intl, ILS PRM RWY 26L (SIMULTANEOUS CLOSE PARALLEL), Amdt 2

Atlanta, GA, Hartsfield—Jackson Atlanta Intl, ILS PRM RWY 26R, ILS PRM RWY 26R (SA CAT I), ILS PRM RWY 26R (SA CAT II) (SIMULTANEOUS CLOSE PARALLEL), Amdt 3

Atlanta, GA, Hartsfield—Jackson Atlanta Intl, ILS PRM RWY 27L, ILS PRM RWY 27L (SA CAT I), ILS PRM RWY 27L (CAT II) (SIMULTANEOUS CLOSE PARALLEL), Amdt 3

Atlanta, GA, Hartsfield—Jackson Atlanta Intl, ILS PRM RWY 27R, (SIMULTANEOUS CLOSE PARALLEL), Amdt 2

Atlanta, GA, Hartsfield—Jackson Atlanta Intl, ILS PRM RWY 28, ILS PRM RWY 28 (SA CAT I), ILS PRM RWY 28 (CAT II) (SIMULTANEOUS CLOSE PARALLEL), Amdt 4

Atlanta, GA, Hartsfield—Jackson Atlanta Intl, RNAV (GPS) RWY 8R, Amdt 4

Atlanta, GA, Hartsfield—Jackson Atlanta Intl, RNAV (GPS) RWY 9R, Amdt 4

Atlanta, GA, Hartsfield—Jackson Atlanta Intl, RNAV (GPS) RWY 26L, Amdt 4

Atlanta, GA, Hartsfield—Jackson Atlanta Intl, RNAV (GPS) RWY 27L, Amdt 5

Atlanta, GA, Hartsfield—Jackson Atlanta Intl, RNAV (GPS) RWY 27R, Amdt 4

Atlanta, GA, Hartsfield—Jackson Atlanta Intl, RNAV (GPS) PRM RWY 8R (SIMULTANEOUS CLOSE PARALLEL), Orig

Atlanta, GA, Hartsfield—Jackson Atlanta Intl, RNAV (GPS) PRM RWY 9R (SIMULTANEOUS CLOSE PARALLEL), Orig

Atlanta, GA, Hartsfield—Jackson Atlanta Intl, RNAV (GPS) PRM RWY 26L (SIMULTANEOUS CLOSE PARALLEL), Orig

Atlanta, GA, Hartsfield—Jackson Atlanta Intl, RNAV (GPS) PRM RWY 27L (SIMULTANEOUS CLOSE PARALLEL), Orig

Atlanta, GA, Hartsfield—Jackson Atlanta Intl, RNAV (GPS) PRM RWY 27R (SIMULTANEOUS CLOSE PARALLEL), Orig

Atlanta, GA, Hartsfield—Jackson Atlanta Intl, RNAV (GPS) PRM Y RWY 8L (SIMULTANEOUS CLOSE PARALLEL), Orig

Atlanta, GA, Hartsfield—Jackson Atlanta Intl, RNAV (GPS) PRM Y RWY 10 (SIMULTANEOUS CLOSE PARALLEL), Orig

Atlanta, GA, Hartsfield—Jackson Atlanta Intl, RNAV (GPS) PRM Y RWY 26R (SIMULTANEOUS CLOSE PARALLEL), Orig

Atlanta, GA, Hartsfield—Jackson Atlanta Intl, RNAV (GPS) PRM Y RWY 28 (SIMULTANEOUS CLOSE PARALLEL), Orig

Atlanta, GA, Hartsfield—Jackson Atlanta Intl, RNAV (GPS) Y RWY 8L, Amdt 4

Atlanta, GA, Hartsfield—Jackson Atlanta Intl, RNAV (GPS) Y RWY 10, Amdt 4

Atlanta, GA, Hartsfield—Jackson Atlanta Intl, RNAV (GPS) Y RWY 26R, Amdt 4

Atlanta, GA, Hartsfield—Jackson Atlanta Intl, RNAV (GPS) Y RWY 28, Amdt 4

Atlanta, GA, Hartsfield—Jackson Atlanta Intl, RNAV (RNP) Z RWY 8L, Orig

Atlanta, GA, Hartsfield—Jackson Atlanta Intl, RNAV (RNP) Z RWY 10, Orig

Atlanta, GA, Hartsfield—Jackson Atlanta Intl, RNAV (RNP) Z RWY 26R, Orig

Atlanta, GA, Hartsfield—Jackson Atlanta Intl, RNAV (RNP) Z RWY 28, Orig

St Marys, GA, St Marys, RNAV (GPS) RWY 31, Amdt 1A

Boise, ID, Boise Air Terminal/Gowen Fld, ILS OR LOC/DME RWY 28R, Orig, CANCELED

Evansville, IN, Evansville Rgnl, ILS OR LOC RWY 4, Amdt 3

Evansville, IN, Evansville Rgnl, ILS OR LOC RWY 22, Amdt 22

Evansville, IN, Evansville Rgnl, NDB RWY 22, Amdt 14

Evansville, IN, Evansville Rgnl, RADAR-1, Amdt 7

Evansville, IN, Evansville Rgnl, RNAV (GPS) RWY 4, Amdt 1

Evansville, IN, Evansville Rgnl, RNAV (GPS) RWY 18, Amdt 2

Evansville, IN, Evansville Rgnl, RNAV (GPS) RWY 22, Amdt 1

Evansville, IN, Evansville Rgnl, RNAV (GPS) RWY 36, Amdt 2

Evansville, IN, Evansville Rgnl, VOR RWY 4, Amdt 7

Olathe, KS, Johnson County Executive, LOC RWY 18, Amdt 8

Olathe, KS, Johnson County Executive, LOC RWY 36, Amdt 2

Jamestown, KY, Russell County, RNAV (GPS) RWY 17, Amdt 2

Jamestown, KY, Russell County, RNAV (GPS) RWY 35, Amdt 2

Falmouth, MA, Cape Cod Coast Guard Air Station, COPTER ILS OR LOC RWY 23, Amdt 1

Detroit, MI, Detroit Metropolitan Wayne County, ILS OR LOC RWY 3R, ILS RWY 3R (SA CAT I), ILS RWY 3R (CAT II), ILS RWY 3R (CAT III), Amdt 16

Detroit, MI, Detroit Metropolitan Wayne County, ILS OR LOC RWY 4R, ILS RWY 4R (SA CAT I), ILS RWY 4R (CAT II), ILS RWY 4R (CAT III), Amdt 17

Detroit, MI, Detroit Metropolitan Wayne County, ILS OR LOC RWY 22L, ILS RWY 22L (SA CAT I), ILS RWY 22L (SA CAT II), Amdt 30A

Detroit, MI, Detroit Metropolitan Wayne County, ILS OR LOC RWY 27L, ILS RWY 27L (SA CAT I), ILS RWY 27L (SA CAT II), Amdt 4

Detroit, MI, Detroit Metropolitan Wayne County, ILS PRM RWY 3R, ILS PRM RWY 3R (SA CAT I), ILS PRM RWY 3R (CAT II), ILS PRM RWY 3R (CAT III) (SIMULTANEOUS CLOSE PARALLEL), Amdt 1

Detroit, MI, Detroit Metropolitan Wayne County, ILS PRM RWY 4R, ILS PRM RWY 4R (SA CAT I), ILS PRM RWY 4R (CAT II), ILS PRM RWY 4R (CAT III) (SIMULTANEOUS CLOSE PARALLEL), Amdt 1

Detroit, MI, Detroit Metropolitan Wayne County, ILS PRM RWY 22L (SIMULTANEOUS CLOSE PARALLEL), Orig-D

Detroit, MI, Detroit Metropolitan Wayne County, ILS Z OR LOC RWY 22R, ILS Z RWY 22R (SA CAT I), ILS Z RWY 22R (SA CAT II), Amdt 3

Detroit, MI, Detroit Metropolitan Wayne County, RNAV (GPS) RWY 3R, Amdt 2

Detroit, MI, Detroit Metropolitan Wayne County, RNAV (GPS) RWY 22R, Amdt 2

Port Huron, MI, St Clair County Intl, ILS OR LOC RWY 4, Amdt 4

Port Huron, MI, St Clair County Intl, NDB RWY 4, Amdt 5

Port Huron, MI, St Clair County Intl, RNAV (GPS) RWY 22, Amdt 1

Port Huron, MI, St Clair County Intl, VOR/DME-A, Amdt 8, CANCELED

Brookfield, MO, North Central Missouri Rgnl, Takeoff Minimums and Obstacle DP, Amdt 2

Asheboro, NC, Asheboro Rgnl, RNAV (GPS) RWY 3, Orig-A

Mocksville, NC, Twin Lakes, RNAV (GPS) RWY 9, Amdt 1

Star, NC, Montgomery County, RNAV (GPS) RWY 3, Orig

Star, NC, Montgomery County, RNAV (GPS) RWY 21, Orig

Star, NC, Montgomery County, Takeoff Minimums and Obstacle DP, Orig

Newark, NJ, Newark Liberty Intl, ILS OR LOC RWY 4R, ILS RWY 4R (CAT II), ILS RWY 4R (CAT III), Amdt 13

Albuquerque, NM, Albuquerque Intl Sunport, ILS OR LOC RWY 8, Amdt 5H

Buffalo, NY, Buffalo Niagara Intl, RNAV (GPS) Y RWY 5, Amdt 2B

Buffalo, NY, Buffalo Niagara Intl, RNAV (GPS) Y RWY 23, Amdt 2B

White Plains, NY, Westchester County, ILS OR LOC RWY 16, Amdt 24

Norman, OK, University of Oklahoma Westheimer, Takeoff Minimums and Obstacle DP, Amdt 1

Oklahoma City, OK, Wiley Post, Takeoff Minimums and Obstacle DP, Amdt 5

Hazelton, PA, Hazelton Regional, LOC RWY 28, Amdt 7

Georgetown, SC, Georgetown County, NDB RWY 5, Amdt 6

Georgetown, SC, Georgetown County, RNAV (GPS) RWY 5, Orig

Georgetown, SC, Georgetown County, RNAV (GPS) RWY 23, Amdt 2

Georgetown, SC, Georgetown County, Takeoff Minimums and Obstacle DP, Amdt 1

Brookings, SD, Brookings Rgnl, RNAV (GPS) RWY 12, Amdt 1

Brookings, SD, Brookings Rgnl, Takeoff Minimums and Obstacle DP, Amdt 1

Dallas, TX, Dallas Love Field, RNAV (RNP) Z RWY 31R, Orig

Moneta, VA, Smith Mountain Lake, Takeoff Minimums and Obstacle DP, Amdt 1

Norfolk, VA, Hampton Roads Executive, RNAV (GPS) RWY 10, Orig

Norfolk, VA, Hampton Roads Executive, RNAV (GPS) RWY 10, Amdt 1, CANCELED

Norfolk, VA, Hampton Roads Executive, Takeoff Minimums and Obstacle DP, Orig

Norfolk, VA, Hampton Roads Executive, Takeoff Minimums and Obstacle DP, Amdt 1, CANCELED

Point Pleasant, WV, Mason County, Takeoff Minimums and Obstacle DP, Amdt 4

RESCINDED: On August 11, 2014 (79 FR 46672), the FAA published an Amendment in Docket No. 30968, Amdt No. 3599, to Part 97 of the Federal Aviation Regulations under section 97.23 and 97.29. The following entries for Grand Rapids, MI., Hastings, MI., Holland, MI., and Sparta, MI., effective September 18, 2014 are hereby rescinded in their entirety:

Grand Rapids, MI, Gerald R. Ford Intl, ILS OR LOC RWY 8R, Amdt 6A

Grand Rapids, MI, Gerald R. Ford Intl, ILS OR LOC RWY 26L, Amdt 21A

Grand Rapids, MI, Gerald R. Ford Intl, ILS OR LOC RWY 35, Amdt 1B

Grand Rapids, MI, Gerald R. Ford Intl, VOR RWY 17, Orig-D

Grand Rapids, MI, Gerald R. Ford Intl, VOR RWY 35, Amdt 1A

Hastings, MI, Hastings, VOR RWY 12, Orig-E

Holland, MI, West Michigan Rgnl, VOR-A, Amdt 10D

Sparta, MI, Paul C. Miller-Sparta, VOR-A, Amdt 4A

[FR Doc. 2014-22380 Filed 9-24-14; 8:45 am]

BILLING CODE 4910-13-P